DEPARTMENT OF TRANSPORTATION

Federal Aviation Administration

14 CFR Part 71

[Docket FAA No. FAA-2008-0006; Airspace Docket No. 08-ANM-1]

Establishment of Class D Airspace and Amendment of Class E Airspace; North Bend, OR

AGENCY: Federal Aviation Administration (FAA), DOT.

ACTION: Final rule; correction.

SUMMARY: This action corrects a final rule published in the Federal Register on August 26, 2009. In that rule, errors were made in the legal description and the airport name for North Bend, OR. This action corrects those errors.

DATES: Effective Date: 0901 UTC, October 22, 2009. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On August 26, 2009, a final rule for Airspace Docket No. 08-ANM-1, FAA Docket No. FAA-2008-0006 was published in the Federal Register (74 FR 43030), establishing Class D airspace and amending Class E airspace at North Bend, OR. The latitude, longitude referencing the airport stated “* * * lat. 43°25′02″ N., long. 124°14′46″ W.” instead of “* * * lat. 43°25′01″ N., long. 124°14′49″ W.”. Also the airport name stated “North Bend Municipal Airport, OR” instead of “Southwest Oregon Regional Airport, OR”. This action corrects that error.

Correction to Final Rule

Accordingly, pursuant to the authority delegated to me, the legal description as published in the Federal Register on August 26, 2009 (74 FR 43030), Airspace Docket No. 08-ANM-1, FAA Docket No. FAA-2008-0006, and incorporated by reference in 14 CFR 71.1, is corrected as follows:

§ 71.1 [Amended]

On page 43030, correct the legal description for North Bend, OR, to read as follows:

Paragraph 5000 Class D airspace.

* * * * *

ANM OR D North Bend, OR [Corrected]

Southwest Oregon Regional Airport, OR

(Lat. 43°25′01″ N., long. 124°14′49″ W.)

That airspace extending upward from the surface to and including 2,500 feet MSL within a 4.2-mile radius of the Southwest Oregon Regional Airport. This Class D airspace area is effective during the specific dates and times established in advance by a Notice to Airmen. The effective date and time will thereafter be continuously published in the Airport/Facility Directory.

* * * * *

Paragraph 6002 Class E airspace Designated as Surface Areas.

* * * * *

ANM OR E2 North Bend, OR [Corrected]

Southwest Oregon Regional Airport, OR

(Lat. 43°25′01″ N., long. 124°14′49″ W.)

North Bend VORTAC

(Lat. 43°24′56″ N., long. 124°10′07″ W.)

Emire LOM/NDB

(Lat. 43°23′40″ N., long. 124°18′37″ W.)

Within a 4.2-mile radius of the Southwest Oregon Regional Airport, and within 1.8 miles each side of the North Bend VORTAC 044° radial extending from the 4.2-mile radius to 5.7 miles northeast of the VORTAC, and within 3.7 miles each side of the North Bend VORTAC 092° radial extending from the 4.2-mile radius to 7.5 miles east of the VORTAC, and within 2.7 miles each side of the 241° bearing from the Emire LOM/NDB extending from the 4.2-mile radius to 6.1 miles southwest of the LOM/NDB. This Class E airspace area is effective during the specific dates and times established in advance by a Notice to Airmen. The effective date and time will thereafter be continuously published in the Airport/Facility Directory.

* * * * *

Issued in Seattle, Washington, on September 10, 2009.
H. Steve Karnes,
Acting Manager, Operations Support Group, Western Service Center.

[FR Doc. E9-22481 Filed 9-24-09; 8:45 am]

BILLING CODE 4910-13-P